FEDERAL MARITIME COMMISSION

Ocean Transportation Intermediary License; Reissuances

Notice is hereby given that the following Ocean Transportation Intermediary licenses have been reissued by the Federal Maritime Commission pursuant to section 19 of the Shipping Act of 1984, (46 U.S.C. app. 1718) and the regulations of the Commission pertaining to the licensing of Ocean Transportation Intermediaries, 46 CFR part 515.

License No. | Name/address | Date reissued
004403NF | “A” Pacific Express, Enterprises, 2145 N. Tyler Avenue, Suite B, South El Monte, CA 91733 | November 6, 2005.
004309F | East West North South Forwarding, Inc., 3511 NW 113 Court, Miami, FL 33178 | March 29, 2006.
004657F | Ocean Transportation Services, LLC, 500 Union Street, Ste. 701, Seattle, WA 98101-2369 | April 13, 2006.
006861N | Transconex Incorporated, dba Caribe Best Services, 450 Shattuck Ave South, Suite 401, Renton, WA 98055 | February 18, 2006.
019271NF | Xima Freight Services, Inc., 8217 N.W. 66th Street, Miami, FL 33166 | April 1, 2006.

Peter J. King,
Deputy Director, Bureau of Certification and Licensing.

[FR Doc. E6-7950 Filed 5-23-06; 8:45 am]

BILLING CODE 6730-01-P